DEPARTMENT OF COMMERCE

National Oceanic and Atmospheric Administration

50 CFR Part 648

[Docket No. 241009-0267]

RTID 0648-XE226

Fisheries of the Northeastern United States; 2025 Specifications for the Summer Flounder, Scup, Black Sea Bass, and Bluefish Fisheries

AGENCY: National Marine Fisheries Service (NMFS), National Oceanic and Atmospheric Administration (NOAA), Commerce.

ACTION: Proposed rule; request for comments.

SUMMARY: NMFS proposes 2025 specifications for the summer flounder, scup, black sea bass, and bluefish fisheries. The implementing regulations for the Summer Flounder, Scup, and Black Sea Bass Fishery Management Plan and the Bluefish Fishery Management Plan require us to publish specifications for the upcoming fishing year for each of these species and to provide an opportunity for public comment. The proposed specifications establish allowable harvest levels for these species that will prevent overfishing, consistent with the most recent scientific information.

DATES: Comments must be received on or before October 31, 2024.

ADDRESSES: A plain language summary of this proposed rule is available at https://www.regulations.gov/docket/NOAA-NMFS-2024-0117. You may submit comments on this document, identified by NOAA-NMFS-2024-0117, by the following method:

• Electronic Submission: Submit all electronic public comments via the Federal e-Rulemaking Portal. Visit https://www.regulations.gov and type NOAA-NMFS-2024-0117 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

A Supplemental Information Report (SIR) was prepared for the 2025 black sea bass specifications. Environmental Assessments (EA) were prepared for the 2024 and projected 2025 summer flounder and scup specifications and 2024 and projected 2025 bluefish specifications. Copies of the EAs are available on request from Dr. Christopher M. Moore, Executive Director, Mid-Atlantic Fishery Management Council, Suite 201, 800 North State Street, Dover, DE 19901. The EAs are also accessible via the internet at https://www.mafmc.org/supporting-documents.

FOR FURTHER INFORMATION CONTACT: Emily Keiley, Fishery Policy Analyst, (978) 281-9116, or emily.keiley@noaa.gov.

SUPPLEMENTARY INFORMATION:

General Background

The Mid-Atlantic Fishery Management Council (Council) and the Atlantic States Marine Fisheries Commission (Commission) cooperatively develop management measures for the summer flounder, scup, black sea bass, and bluefish fisheries. The Council, pursuant to the Magnuson-Stevens Fishery Conservation and Management Act (Magnuson-Stevens Act) develops recommendations regarding fisheries in Federal waters seaward of New York, New Jersey, Delaware, Pennsylvania, Maryland, Virginia, and North Carolina. The Commission, pursuant to the Atlantic Coastal Fisheries Cooperative Management Act, addresses fisheries in state waters from Florida to Maine. These bodies work together in the development of complementary fishery management plans (FMP) for species like summer flounder, scup, black sea bass, and bluefish that are harvested in both Federal and state waters, and each year these bodies work together to develop specifications for these fisheries. The Council provides its recommendations to NMFS, and NMFS engages in a Federal rulemaking process by which the agency adopts specifications that become binding on the Federal fisheries. Specifications in these fisheries include various catch and landing subdivisions, such as the commercial and recreational sector annual catch limits (ACL), annual catch targets (ACT), and sector-specific landing limits (i.e., the commercial fishery quota and recreational harvest limit (RHL)) established for 1 to 3 years at a time. Adjustments to commercial management measures are also considered in the specifications process. The process for measures used to manage the recreational fisheries (i.e., minimum fish sizes, seasonal closures, and possession restrictions) for these four species occurs separately and is not discussed further in this proposed rule.

The Summer Flounder, Scup, and Black Sea Bass FMP and the Bluefish FMP and their implementing regulations establish the process for establishing specifications for each of those four species. All requirements of the Magnuson-Stevens Act, including the 10 national standards, also apply to specifications. The FMPs also contain formulas to divide the catch limits into commercial and recreational fishery allocations, state-by-state quotas, and quota periods, depending on the species in question. This proposed rule outlines the application of the existing allocation provisions for each species and provides the resulting allocations by state and sector, as appropriate, for each species.

The Council's Scientific and Statistical Committee (SSC) met on July 23-25, 2024, to recommend acceptable biological catches (ABC) for the summer flounder, scup, black sea bass, and bluefish fisheries. The FMPs' implementing regulations require the involvement of a monitoring committee in the specification process for each species. The Monitoring Committees recommend any reduction in catch limits from the SSC-recommended ABCs to offset management uncertainty and other commercial management measures (e.g., mesh requirements, minimum commercial fish sizes, gear restrictions, possession restrictions, and area restrictions) needed for these four fisheries. The Monitoring Committees met on August 1 and 2, 2024, to develop specification-related recommendations for each fishery.

Following the SSC and Monitoring Committee meetings, the Council and the Commission's Summer Flounder, Scup, Black Sea Bass, and Bluefish Management Boards considered the recommendations of the SSC, the Monitoring Committees, and public comments and made their specification recommendations at a meeting held on August 12-15, 2024. While the Boards' actions were finalized at the August meeting, the Council's recommendations must be reviewed by NMFS to ensure that they comply with the FMPs, implementing regulations, and applicable law. NMFS also must conduct notice-and-comment rulemaking to propose and implement the final specifications.

Proposed 2025 Specifications

Summer Flounder Specifications

Consistent with the statutory scheme described above, NMFS is proposing the Council and Board-recommended 2025 summer flounder catch and landings limits shown in table 1.

Table 1—Summary of 2025 Summer Flounder Fishery Specifications
Specifications | Million pounds (lb) | Metric ton (mt)
Overfishing Limit (OFL) | 24.97 | 11,325
ABC | 19.32 | 8,761
Commercial ACL = ACT | 10.62 | 4,819
Commercial Quota | 8.79 | 3,987
Recreational ACL = ACT | 8.69 | 3,942
Recreational Harvest Limit | 6.35 | 2,879

The proposed initial 2025 state-by-state summer flounder quotas are provided in table 2. As required in Amendment 21 to the Summer Flounder, Scup, and Black Sea Bass FMP (85 FR 80661), if the commercial quota in any year is higher than 9.55 million lb (4,332 mt), the first 9.55 million lb (4,322 mt) is distributed according to the baseline formula, and any additional quota beyond this threshold will be distributed in equal shares to all states except Maine, Delaware, and New Hampshire, which would split 1 percent of the additional quota. Because this year's quota is below the threshold, the state-by-state allocations below are based on the baseline allocations that were established through Amendment 2 (57 FR 57358) and modified by Amendment 4 (58 FR 49937) to the Summer Flounder, Scup, and Black Sea Bass FMP. Any long-standing overages or potential 2024 overages may result in adjustments to these proposed quotas in the final rule.

Table 2—Initial 2025 Summer Flounder State-by-State Quotas
State | Percent share | Initial 2025 Quotas * (lb) | Initial 2025 Quotas * (mt)
ME | 0.04756 | 4,180 | 1.90
NH | 0.00046 | 40 | 0.02
MA | 6.82046 | 599,507 | 271.93
RI | 15.68298 | 1,378,507 | 625.28
CT | 2.25708 | 198,394 | 89.99
NY | 7.64699 | 672,157 | 304.89
NJ | 16.72499 | 1,470,098 | 666.83
DE | 0.01779 | 1,564 | 0.71
MD | 2.03910 | 179,233 | 81.30
VA | 21.31676 | 1,873,707 | 849.90
NC | 27.44584 | 2,412,443 | 1,094.27
Total | 100 | 8,789,830 | 3,987.02
* Initial quotas do not account for any previous overages.

This action makes no changes to the current commercial management measures, including the minimum fish size (14-inch (36-centimeters (cm)) total length), gear requirements, and possession limits. This action also proposes no changes to the recreational management measures. Any such changes would take place through a separate action.

Black Sea Bass Specifications

At the August 2024, meeting, the Council and the Commission's Black Sea Bass Board were unable to agree on the 2025 black sea bass specifications. The Black Sea Bass Board adopted a coastwide quota for black sea bass that is the same as the 2024 quota, while the Council adopted a quota that represents a 20-percent reduction from 2024. If implemented, the differing quotas would likely have significant negative socioeconomic impacts on Federal black sea bass permit holders. The regulations at 50 CFR 648.143(e) require that, in the case of different specifications, the Regional Administrator will take administrative action to align measures to prevent these differential effects on Federal permit holders. Given the current status of the black sea bass stock, which is well above the FMP's definition of the biomass capable of producing maximum sustainable yield, and the potentially significant social and economic harm to Federal permit holders that would result from divergent state and Federal quotas, we are proposing to implement 2025 black sea bass specifications consistent with those adopted by the Commission.

The proposed 2025 black sea bass catch and landings limits are shown in table 3.

Table 3—2025 Black Sea Bass Catch and Landings Limits
Specifications | Million lb | mt
OFL | 17.01 | 7,716
ABC | 16.66 | 7,557
Expected Commercial Discards | 1.50 | 680
Expected Recreational Discards | 2.89 | 1,311
Commercial ACL = ACT | 7.50 | 3,401
Commercial Quota | 6.00 | 2,721
Recreational ACL = ACT | 9.16 | 4,156
RHL | 6.27 | 2,845

This action proposes no changes to the other commercial management measures for black sea bass, including the commercial minimum fish size (11-inch (27.94-cm) total length) and gear requirements. This action also proposes no changes to the recreational management measures. Any such changes to recreational management measures for black sea bass would occur through a separate action.

On October 1, 2024 (89 FR 79778), we implemented Amendment 23 to the Summer Flounder, Scup, and Black Sea Bass FMP, which changes the Federal coastwide commercial in-season accountability measure such that the black sea bass commercial fishery will now close when the quota plus an additional buffer of up to 5 percent is projected to be landed. The intent of this buffer is to minimize negative economic impacts when the coastwide quota is reached before all states have fully harvested their allocations due to overages in individual states.

Pursuant to Amendment 23, each year, through the specification process, the Council and Board will recommend and NMFS will establish a buffer from 0 to 5 percent. For 2025, the Council and Board have recommended a 5-percent commercial in-season closure buffer, and this action proposes this buffer. Given recent patterns in the fishery, an in-season closure is not expected for 2025; however, in the unlikely event it is needed, a 5-percent buffer could have socioeconomic benefits with little risk to stock status.

Scup Specifications

The Council and Board-recommended 2025 scup catch and landings limits are shown in table 4.

Table 4—2025 Scup Catch and Landing Limits
Specifications | Million lb | mt
OFL | 42.19 | 19,135
ABC | 41.31 | 18,740
Expected Commercial Discards | 7.38 | 3,318
Expected Recreational Discards | 2.08 | 944
Commercial ACL = ACT | 26.85 | 12,181
Commercial Quota | 19.54 | 8,863
Recreational ACL = ACT | 14.46 | 6,559
RHL | 12.31 | 5,585

The Summer Flounder, Scup and Black Sea Bass FMP established three commercial fishery quota periods with corresponding percentages of the total quota for each period. Applying those percentages, which NMFS does not propose to change via this action, to the quota provided in Table 4 results in the allocations to quota periods outlined in table 5.

Table 5—Commercial Scup Quota Allocations for 2025 by Quota Period
Quota period | Percent share | lb | mt
Winter I | 45.11 | 8,814,300 | 3,998
Summer | 38.95 | 7,610,663 | 3,452
Winter II | 15.94 | 3,114,608 | 1,413
Total | 100.00 | 19,539,570 | 8,863

The current quota period possession limits are not changed by this action and are outlined in table 6.

Table 6—Commercial Scup Possession Limits by Quota Period
Quota period | Percent share | Federal possession limits (per trip): lb | Federal possession limits (per trip): kg
Winter I | 45.11 | 50,000 | 22,680
Summer | 38.95 | N/A | N/A
Winter II | 15.94 | 12,000 | 5,443
Total | 100.0 | N/A | N/A

The Winter I scup commercial possession limit is proposed to drop to 1,000 lb (454 kg) when 80 percent of that period's allocation is landed. If the Winter I quota is not fully harvested, the remaining quota would be transferred to Winter II. The Winter II possession limit may be adjusted (in association with a transfer of unused Winter I quota to the Winter II period) via announcement in the Federal Register. The regulations specify that the Winter II possession limit would increase to different levels consistent with any increase in the quota as described in table 7.

Table 7—Potential Increase in Winter II Possession Limits Based on the Amount of Unused Scup Rolled Over From Winter I to Winter II
Initial Winter II possession limit: lb | Initial Winter II possession limit: kg | Rollover from Winter I to Winter II: lb | Rollover from Winter I to Winter II: kg | Increase in initial Winter II possession limit: lb | Increase in initial Winter II possession limit: kg | Final Winter II possession limit after rollover from Winter I to Winter II: lb | Final Winter II possession limit after rollover from Winter I to Winter II: kg
12,000 | 5,443 | 0-499,999 | 0-226,796 | 0 | 0 | 12,000 | 5,443
12,000 | 5,443 | 500,000-999,999 | 226,796-453,592 | 1,500 | 680 | 13,500 | 6,123
12,000 | 5,443 | 1,000,000-1,499,999 | 453,592-680,388 | 3,000 | 1,361 | 15,000 | 6,804
12,000 | 5,443 | 1,500,000-1,999,999 | 680,389-907,184 | 4,500 | 2,041 | 16,500 | 7,484
12,000 | 5,443 | 2,000,000- * 2,500,000 | 907,185-1,133,981 | 6,000 | 2,722 | 18,000 | 8,165
* This process of increasing the possession limit in 1,500 lb (680 kg) increments would continue past 2,500,000 lb (1,122,981 kg), but we end here for the purpose of this example.

This action proposes no changes to the 2025 commercial management measures for scup, including the minimum fish size (9-inch (22.9-cm) total length), gear requirements, and quota period possession limits. This action also proposes no changes to the 2025 recreational management measures. Any such changes would take place through a separate action.

Bluefish Specifications

The Council and Board-recommended 2025 bluefish catch and landings limits are shown in table 8.

Table 8—Summary of 2025 Bluefish Fishery Specifications
Specifications | Million lb | mt
OFL | 27.49 | 12,467
ABC | 21.83 | 9,903
Commercial ACL = ACT | 3.06 | 1,386
Commercial Quota | 3.03 | 1,375
Recreational ACL = ACT | 18.78 | 8,517
Recreational Harvest Limit | 15.70 | 7,121

The coastwide commercial quota is allocated to coastal states from Maine to Florida based on percent shares specified in the Bluefish FMP. Table 9 provides the proposed commercial state allocations based on the Council-recommended coastwide commercial quota for 2025 and the phased-in changes to the percent share allocations to the states specified in Amendment 7. No states exceeded their allocated quota in 2023, or are projected to do so in 2024; therefore, no accountability measures for the commercial fishery are required for the 2025 fishing year based on the data available at this time.

Table 9—2025 Bluefish State Commercial Quota Allocations
State | Percent share | Quota (lb) | Quota (kg)
Maine | 0.35 | 10,582 | 4,800
New Hampshire | 0.30 | 9,123 | 4,138
Massachusetts | 8.66 | 262,663 | 119,142
Rhode Island | 8.41 | 255,061 | 115,694
Connecticut | 1.16 | 35,309 | 16,016
New York | 15.74 | 477,518 | 216,598
New Jersey | 14.26 | 432,630 | 196,238
Delaware | 1.09 | 32,990 | 14,964
Maryland | 2.38 | 72,265 | 32,779
Virginia | 8.44 | 256,125 | 116,176
North Carolina | 32.04 | 972,012 | 440,897
South Carolina | 0.07 | 2,250 | 1,021
Georgia | 0.06 | 1,897 | 860
Florida | 7.04 | 213,625 | 96,899
Total | 100 | 3,033,561 | 1,376,000

This action proposes no changes to the 2025 commercial or recreational management measures for bluefish.

Classification

Pursuant to section 304(b)(1)(A) of the Magnuson-Stevens Act, the NMFS Assistant Administrator has determined that this proposed rule is consistent with the Summer Flounder, Scup, and Black Sea Bass FMP, the Bluefish FMP, other provisions of the Magnuson-Stevens Act, and other applicable law, subject to further consideration after public comment.

This action is exempt from review under Executive Order 12866.

The Chief Counsel for Regulation of the Department of Commerce certified to the Chief Counsel for Advocacy of the Small Business Administration that this proposed rule, if adopted, would not have a significant economic impact on a substantial number of small entities. The basis for the certification follows.

We conducted an evaluation of the potential socioeconomic impacts of the proposed measures in conjunction with the EAs and a SIR. The proposed action would set the 2025 catch and landings limits for summer flounder, scup, black sea bass, and bluefish.

Vessel ownership data were used to identify all individuals who own fishing vessels. Vessels were then grouped according to common owners. The resulting groupings were then treated as entities, or affiliates for purposes of identifying small and large businesses that may be affected by this action.

Affiliates were identified as primarily commercial fishing affiliates if the majority of their revenues in 2023 came from commercial fishing. Some of these affiliates may have also held party/charter permits. Affiliates were identified as primarily for-hire fishing affiliates if the majority of their revenues in 2023 came from for-hire fishing. Some of these affiliates may have also held commercial permits. Affiliates were identified as small or large businesses based on their average revenues during 2019-2023.

A total of 915 affiliates derive the majority of their revenue from commercial fishing operations. Of these affiliates, 905 are classified as small businesses, and 10 are classified as large businesses. A total of 362 primarily for-hire affiliates were identified as potentially impacted by this action. All 362 of these for-hire affiliates were categorized as small businesses.

Expected Impacts on Commercial Entities

The 10 potentially impacted primarily commercial large business affiliates had average total annual revenues of $19.1 million and $303,600 on average in annual revenues from summer flounder, scup, black sea bass, and/or bluefish during 2019-2023. On average, summer flounder, scup, black sea bass, and/or bluefish accounted for about 2 percent of total annual revenues for these ten large businesses.

The 905 potentially impacted primarily commercial small business affiliates had average total annual revenues of $719,300 and $37,500 on average in annual revenues from commercial landings of summer flounder, scup, black sea bass, and/or bluefish during 2019-2023. Summer flounder, scup, and/or black sea bass accounted for an average of 5 percent of the total revenues for these 905 small businesses.

The proposed 2025 quotas for black sea bass and summer flounder are constant compared to 2024. The proposed 2025 bluefish quota is approximately 25 percent higher than the 2024 quota. The proposed 2025 quota for scup would decrease by approximately 7 percent compared to 2024. This decrease in the scup quota is the only plausible pathway for the proposed rule to have an adverse impact on small entities. However, the proposed 2025 scup commercial quotas are expected to result in similar levels of commercial scup landings and revenues as the past several years. Commercial scup landings appear to be influenced more by market factors than the annual commercial quota. The proposed 2025 scup quota is higher than recent commercial landings which have ranged between 12 and 13 million lb since 2018. It is unlikely that commercial effort or landings would change given recent trends.

Expected Impacts on Recreational Entities

As previously stated, 362 for-hire fishing affiliates were identified as potentially impacted by this action based on the definition above. All these affiliates were categorized as small businesses based on their average 2019-2023 revenues. These 362 small businesses had average total annual revenues of $133,500 during 2019-2023. Their average revenues from recreational for hire fishing (for a variety of species) was $132,500. On average, recreational fishing accounted for 99 percent of the total revenues for these 362 small businesses.

It is not possible to derive what proportion of the for-hire revenues came from fishing activities for an individual species. Nevertheless, given the popularity of summer flounder, scup, black sea bass, and bluefish as recreational species, revenues generated from these species are likely important to many of these businesses, at least at certain times of the year.

For-hire revenues are impacted by a variety of factors, including demand for for-hire trips for summer flounder, scup, black sea bass, bluefish, and other potential target species, as well as weather, the economy, and other factors. Recreational measures (possession, season and size limits) for 2025 will remain the same as measures implemented in 2024 for summer flounder, scup, and bluefish. Potential changes for black sea bass recreational measures will be considered in a separate action, but with an unchanged recreational quota it is unlikely that any changes would significantly affect revenues. In any event, any changes to the black sea bass recreational measures will be evaluated when they are developed.

This action is not expected to adversely impact revenues for commercial and recreational vessels that fish for summer flounder, scup, black sea bass, and bluefish. Because this proposed rule, if adopted, will not have a significant economic impact on a substantial number of small entities, an initial regulatory flexibility analysis is not required and none has been prepared.

This proposed rule contains no information collection requirements under the Paperwork Reduction Act of 1995.

List of Subjects in 50 CFR Part 648

Fisheries, Fishing, Reporting and recordkeeping requirements.

Dated: October 10, 2024.
Jennifer Leigh Quan,
Acting Deputy Assistant Administrator for Regulatory Programs, National Marine Fisheries Service.

[FR Doc. 2024-23841 Filed 10-15-24; 8:45 am]

BILLING CODE 3510-22-P